COMMODITY FUTURES TRADING COMMISSION

Global Markets Advisory Committee Meeting

This is to give notice, pursuant to section 10(a) of the Federal Advisory Committee Act, 5 U.S.C. App. 2, section 10(a), that the Commodity Futures Trading Commission's Global Markets Advisory Committee (“GMAC”) will conduct a public meeting on August 1, 2001, in the first floor hearing room (Room 1000) of the Commission's Washington, DC headquarters, Three Lafayette Center, 1155-21st Street, NW., Washington, DC 20581. The meeting will begin at 1 p.m. and last until 4:30 p.m. The Agenda will consist of the following:

Agenda

A. Part 1

1. Introductory Remarks by Commissioner Barbara Pedersen Holum, Chairman, GMAC.

2. Overview of CFTC Rules to Implement the Commodity Futures Modernization Act of 2000 (CFMA).

3. Update on Recent Developments in Electronic Derivatives Trading.

4. Discussion of Security Futures Products under the CFMA.

5. Discussion of Cross-Border Market Access to Domestic and Foreign Investors.

B. Part 2

6. Presentation on the Regulators Information Alert System.

7. Overview of Activities of the International Organization of Securities Commissions (IOSCO).

8. New Business.

The GMAC was created by the Commodity Futures Trading Commission for the purpose of receiving advice and recommendations on the many complex and novel issues raised by the ever-increasing globalization of futures markets. The purposes and objectives of the GMAC are more fully set forth in its charter.

The meeting is open to the public. The Chairman of the GMAC, Commissioner Barbara Pedersen Holum, is empowered to conduct the meeting in a fashion that will, in her judgement, facilitate the orderly conduct of business. Any member of the public who wishes to file a written statement with the Advisory Committee should mail a copy of the statement to the attention of: Global Markets Advisory Committee, c/o Commissioner Barbara Pedersen Holum, Commodity Futures Trading Commission, Three Lafayette Centre, 1155-21st Street, NW., Washington, DC 20581, before the meeting. Members of the public who wish to make oral statements should also inform Commissioner Holum in writing at the foregoing address at least three business days before the meeting. Reasonable provision will be made, if time permits, for an oral presentation of no more than five minutes each in duration.

Issued by the Commission in Washington, DC on July 11, 2001.
Catherine D. Dixon,
Assistant Secretary for the Commission.

[FR Doc. 01-17707 Filed 7-13-01; 8:45 am]

BILLING CODE 6351-01-M